CORPORATION FOR NATIONAL AND COMMUNITY SERVICE

Sunshine Act Notice

The Board of Directors of the Corporation for National and Community Service gives notice of the following meeting:

Date and Time: Wednesday, May 12, 2010, 10:30 a.m.-12 p.m.

Place: Corporation for National and Community Service, 1201 New York Avenue, NW., Suite 8312, Washington, DC 20525 (Please go to 10th floor reception area for escort).

Call-In Information: This meeting is available to the public through the following toll-free call-in number: 888-790-3168 conference call access code number 4567906. Any interested member of the public may call this number and listen to the meeting. Callers can expect to incur charges for calls they initiate over wireless lines, and the Corporation will not refund any incurred charges. Callers will incur no charge for calls they initiate over land-line connections to the toll-free telephone number. Replays are generally available one hour after a call ends. The toll-free phone number for the replay is 800-294-4341. The end replay date: June 12, 10:59 PM (CT).

Status: Open.

Matters to be Considered:

10:30-11:15 a.m.

I. Chair's Opening Comments

II. Consideration of Previous Meeting's Minutes

III. CEO Report

IV. Committee Reports: Oversight, Governance, and Audit Committee; Program, Budget, and Evaluation Committee; and External Relations Committee

11:15-12 a.m.

V. Public Comments

Accommodations: Anyone who needs an interpreter or other accommodation should notify Ida Green at igreen@cns.gov or 202-606-6861 by 5 p.m., May 10, 2010.

Contact Person for More Information: Emily Samose, Office of the CEO, Corporation for National and Community Service, 10th Floor, Room 9613C, 1201 New York Avenue, NW., Washington, DC 20525. Phone (202) 606-7564. Fax (202) 606-3460. TDD: (202) 606-3472. E-mail: esamose@cns.gov.

Dated: April 30, 2010.
Frank R. Trinity,
General Counsel.

[FR Doc. 2010-10709 Filed 5-3-10; 4:15 pm]

BILLING CODE 6050-$$-P